DEPARTMENT OF THE INTERIOR

Bureau of Ocean Energy Management

[Docket No. BOEM-2016-0075; MMAA104000]

Atlantic Wind Lease Sale 6 for Commercial Leasing for Wind Power on the Outer Continental Shelf Offshore New York—Final Sale Notice; Correction

AGENCY: Bureau of Ocean Energy Management (BOEM), Interior.

ACTION: Notice; correction.

SUMMARY: On Monday, October 31, 2016, the Bureau of Ocean Energy Management (BOEM) published the Atlantic Wind Lease Sale 6 (ATLW-6) for Commercial Leasing for Wind Power on the Outer Continental Shelf Offshore New York—Final Sale Notice (FSN) in the Federal Register (81 FR 75429). The FSN announced that BOEM will offer for lease an identified area offshore New York, and provided details regarding the terms of Lease OCS-A 0512 and the forthcoming auction. This Notice corrects a statement in the FSN describing the rental rate for the project easement associated with the lease, to ensure consistency with the rental rate for the project easement as specified in Addendum “D” to the lease.

DATES: This correction does not affect any of the dates or milestones provided in the FSN.

FOR FURTHER INFORMATION CONTACT: Wright Frank, New York Project Coordinator and Auction Manager, BOEM Office of Renewable Energy Programs, 45600 Woodland Road, VAM-OREP, Sterling, Virginia, 20166, (703) 787-1325 or Wright.Frank@boem.gov.

Technical Correction

The FSN at 81 FR 75433 incorrectly stated: “Annual rent for a project easement is the greater of $5 per acre per year or $450 per year.” In order to be consistent with the description of the rental rate for the project easement associated with Lease OCS-A 0512, as discussed in Addendum “D” to the lease, the above sentence is replaced by the following language from Addendum D:

Correction

In the Federal Register of October 31, 2016, in FR Doc. 16-26240, on page 75433, in the third column, correct the last sentence before the heading “Operating Fee” to read: “Annual rent for a project easement 200 feet wide, centered on the transmission cable, is $70.00 per statute mile. For any additional acreage required, the lessee must also pay the greater of $5.00 per acre per year or $450.00 per year.”

Dated: December 13, 2016.
Abigail Ross Hopper,
Director, Bureau of Ocean Energy Management.

[FR Doc. 2016-30352 Filed 12-13-16; 4:15 pm]

BILLING CODE 4310-MR-P